DEPARTMENT OF COMMERCE

Bureau of Industry and Security

15 CFR Parts 742 and 746

[Docket No. 051230351-5351-01]

RIN 0694-AD68

Clarification to the Export Administration Regulations; General Order to Implement the Syria Accountability and Lebanese Sovereignty Act

AGENCY: Bureau of Industry and Security, Commerce.

ACTION: Final rule.

SUMMARY: The Bureau of Industry and Security publishes this final rule to amend the Export Administration Regulations (EAR) by adding two cross-references to the General Order Implementing the Syria Accountability and Lebanese Sovereignty Act (Syria General Order). This amendment clarifies that provisions of the Syria General Order set forth special controls on exports and reexports to Syria and supersede other provisions in the EAR specific to Syria.

DATES: This rule is effective February 24, 2006.

ADDRESSES: Send comments regarding the Paperwork Reduction Act burden estimates or any other aspect of the collection of information affected by this rule to David Rostker, OMB Desk Officer, by e-mail at david_rostker@omb.eop.gov or by fax to 202-395-7285; with a copy to the Regulatory Policy Division, Bureau of Industry and Security at one of the addresses below. Send comments concerning any other aspect of this rule via e-mail to rpd2@bis.doc.gov, via fax to 202-482-3355 or to the Bureau of Industry and Security, Office of Exporter Services, Regulatory Policy Division, Room H2017, U.S. Department of Commerce, Washington, DC 20230. Please refer to RIN 0694-AD68 in all comments.

FOR FURTHER INFORMATION CONTACT: Sheila Quarterman, Bureau of Industry and Security, Office of Exporter Services, Regulatory Policy Division, by phone at 202-482-2440 or by fax 202-482-3355.

SUPPLEMENTARY INFORMATION:

Background

On May 14, 2004 the Bureau of Industry and Security issued General Order Implementing Syria Accountability and Lebanese Sovereignty Act of 2003 (Syria General Order) consistent with Executive Order 13338 of May 11, 2004. Pursuant to the Syria General Order, exports and reexports of all items subject to the Export Administration Regulations (EAR) (15 CFR 730 et seq.), except food and medicine classified as EAR99 and “deemed export” and “deemed reexport” of EAR99 technology or source code, require a license to Syria (medicine is defined in Part 772 of the EAR). All license applications for exports or reexports to Syria are subject to a general policy of denial, other than particular transactions described in the General Order.

The Syria General Order is set forth in Supplement No. 1 to Part 736 of the EAR as General Order No. 2. In response to a suggestion by exporters, this final rule clarifies that the Syria General Order sets forth special controls on exports and reexports to Syria and supersedes other provisions in the EAR specific to Syria by adding two cross references to the Syria General Order in parts 742 and 746 of the EAR. Specifically, this final rule adds a new paragraph (e) to section 742.9 “Anti-terrorism: Syria”, and adds new section 746.9, “Syria,” to part 746—Embargoes and Other Special Controls.

Although the Export Administration Act expired on August 20, 2001, the President, through Executive Order 13222 of August 17, 2001, 3 CFR, 2001 Comp., p. 783 (2002), as extended by the Notice of August 2, 2005, 70 FR 45273 (August 5, 2005), has continued the Export Administration Regulations in effect under the International Emergency Economic Powers Act.

Rulemaking Requirements

1. This rule has been determined to be not significant for purposes of E.O. 12866.

2. Notwithstanding any other provision of law, no person is required to respond to, nor shall any person be subject to a penalty for failure to comply with a collection of information, subject to the requirements of the Paperwork Reduction Act, unless that collection of information displays a currently valid Office of Management and Budget Control Number. This rule involves collections of information subject to the Paperwork Reduction Act of 1980 (44 U.S.C. 3501 et seq.). These collections have been approved by Office of Management and Budget under control number 0694-0088, “Multi-Purpose Application,” which carries a burden hour estimate of 58 minutes for a manual or electronic submission. BIS believes that this rule will not materially affect the burden imposed by this collections.

3. This rule does not contain policies with Federalism implications as that term is defined under E.O. 13132.

4. The Department finds that there is good cause under 5 U.S.C. 553(b)(B) to waive the provisions of the Administrative Procedure Act requiring prior notice and the opportunity for public comment because it is unnecessary. The changes made by this rule merely provide greater clarity by including cross-references to interrelated provisions of existing regulations. In particular, the Syria General Order, published in May of 2004, modified the regulatory treatment of exports and reexports to Syria. This rule inserts references to the General Order into existing Syria specific provisions of the EAR to ensure that the public is aware of the existence of the Syria General Order. Therefore because the changes made by this rule are not substantive, it is unnecessary to provide notice and opportunity for public comment. In addition, the 30-day delay in effectiveness required by 5 U.S.C. 553(d) is not applicable because this rule is not a substantive rule.

Because notice of proposed rulemaking and opportunity for public comment are not required to be given for this rule under the Administrative Procedure Act or by any other law, the analytical requirements of the Regulatory Flexibility Act (5 U.S.C. 601 et seq.) are not applicable.

List of Subjects

15 CFR Part 742

Exports, Terrorism.

15 CFR Part 746

Exports, Foreign trade.

Accordingly, parts 742 and 746 of the Export Administration Regulations (15 CFR parts 730—799) are amended as follows:

PART 742—[AMENDED]

1. The authority citation for part 742 continues to read as follows:

Authority: 50 U.S.C. app. 2401 et seq.; 50 U.S.C. 1701 et seq.; 18 U.S.C. 2510 et seq.; 22 U.S.C. 3201 et seq.; 42 U.S.C. 2139a; Sec. 901-911, Pub. L. 106-387; Sec. 221, Pub. L. 107-56; Sec 1503, Pub. L. 108-11,117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23 of May 7, 2003, 68 FR 26459, May 16, 2003; Notice of August 2, 2005, 70 FR 45273 (August 5, 2005); Notice of October 25, 2005, 70 FR 62027 (October 27, 2005).

2. Section 742.9 is amended to add a new paragraph (e) as follows:

§ 742.9 Anti-terrorism: Syria.

* * * * *

(e) General Order No. 2, Supplement No. 1 to part 736 of the EAR, sets forth special controls for exports and reexports to Syria. General Order No. 2 supersedes the provisions of paragraphs (a) through (d) of this section.

PART 746—[AMENDED]

3. The authority citation for part 746 continues to read as follows:

Authority: 50 U.S.C. app. 2401 et seq.; 50 U.S.C. 1701 et seq.; 22 U.S.C. 287c; Sec 1503, Pub. L. 108-11,117 Stat. 559; 22 U.S.C. 6004; Sec. 901-911, Pub. L. 106-387; Sec. 221, Pub. L. 107-56; E.O. 12854, 58 FR 36587, 3 CFR 1993 Comp., p. 614; E.O. 12918, 59 FR 28205, 3 CFR, 1994 Comp., p. 899; E.O. 13222, 3 CFR, 2001 Comp., p. 783; Presidential Determination 2003-23 of May 7, 2003, 68 FR 26459, May 16, 2003; Notice of August 2, 2005, 70 FR 45273 (August 5, 2005).

4. New section 746.9 is added to read as follows:

§ 746.9 Syria.

General Order No. 2, Supplement No. 1 to part 736 of the EAR, sets forth special controls for exports and reexports to Syria.

Dated: February 14, 2006.
Matthew S. Borman,
Deputy Assistant Secretary for Export Administration.

[FR Doc.06-1709 Filed 2-23-06; 8:45 am]

BILLING CODE 3510-33-P